COMMODITY FUTURES TRADING COMMISSION

Market Risk Advisory Committee

AGENCY: Commodity Futures Trading Commission.

ACTION: Notice of meeting.

SUMMARY: The Commodity Futures Trading Commission (CFTC) announces that on December 10, 2024, from 9:30 a.m. to 12:30 p.m. (Eastern Standard Time), the Market Risk Advisory Committee (MRAC or Committee) will hold an in-person public meeting at the CFTC's Washington, DC headquarters, with options for the public to attend virtually. At this meeting, the MRAC will discuss current topics and developments in the areas of central counterparty risk and governance, market structure, climate-related risk, and innovative and emerging technologies affecting the derivatives and related financial markets, including discussions led by the Central Counterparty (CCP) Risk & Governance and Market Structure subcommittees with recommendations related to CCP cyber resilience and critical third-party service providers and the cash futures basis trade, respectively.

DATES: The meeting will be held on December 10, 2024, from 9:30 a.m. to 12:30 p.m. (Eastern Standard Time). Please note that the meeting may end early if the MRAC has completed its business. Members of the public who wish to submit written statements in connection with the meeting should submit them by December 17, 2024.

ADDRESSES: The meeting will take place in the Conference Center at the CFTC's headquarters, Three Lafayette Centre, 1155 21st Street NW, Washington, DC 20581. You may submit public comments, identified by “Market Risk Advisory Committee,” through the CFTC website at https://comments.cftc.gov. Follow the instructions for submitting comments through the Comments Online process on the website. If you are unable to submit comments online, contact Peter Janowski, Alternate Designated Federal Officer, via the contact information listed in this Notice to discuss alternate means of submitting your comments. Any statements submitted in connection with the committee meeting will be made available to the public, including by publication on the CFTC website, https://www.cftc.gov.

FOR FURTHER INFORMATION CONTACT: Peter Janowski, MRAC Alternate Designated Federal Officer, Commodity Futures Trading Commission, Three Lafayette Centre, 1155 21st Street NW, Washington, DC 20581; (646) 746-9870 or pjanowski@cftc.gov.

SUPPLEMENTARY INFORMATION: The entire meeting will be open to the public with seating on a first-come, first-served basis. Registration for this meeting is not required. Members of the public may also listen to the meeting by telephone by calling a domestic or international toll or toll-free number to connect to a live, listen-only audio feed. Call-in participants should be prepared to provide their first name, last name, and affiliation.

Domestic Toll-Free Number:

833 435 1820 U.S.

833 568 8864 U.S.

Domestic Toll Number:

+1 669 254 5252 U.S. (San Jose)

+1 646 828 7666 U.S. (New York)

+1 646 964 1167 U.S. (U.S. Spanish Line)

+1 415 449 4000 U.S. (U.S. Spanish Line)

+1 551 285 1373 U.S. (New Jersey)

+1 669 216 1590 U.S. (San Jose)

International numbers are available here: https://cftc-gov.zoomgov.com/u/abBIfl8GgU, and will be posted on the CFTC's website, https://www.cftc.gov, on the page for the meeting, under Related Links.

Call-In/Webinar ID: 161 098 2116

Pass Code/Pin Code: 876025

Members of the public may also view a live webcast of the meeting via the www.cftc.gov website. The meeting agenda may change to accommodate other Committee priorities. For agenda updates and meeting materials, please visit: https://www.cftc.gov/About/AdvisoryCommittees/MRAC.

After the meeting, a transcript of the meeting will be published through a link on the CFTC's website, https://www.cftc.gov. Persons requiring special accommodations to attend the meeting because of a disability should notify the contact person listed in this notice.

(Authority: 5 U.S.C. 1009(a)(2).)

Dated: October 31, 2024.
Christopher Kirkpatrick,
Secretary of the Commission.

[FR Doc. 2024-25698 Filed 11-4-24; 8:45 am]

BILLING CODE 6351-01-P